DEPARTMENT OF JUSTICE

Office of Justice Programs

Agency Information Collection Activities: Proposed Collection; Comment Request

AGENCY: Notice of information under review; extension of an currently approved collection; request an emergency extension for an existing data collection, the National Crime Victimization Survey (NCVS)

The Department of Justice, Office of Justice Programs, Bureau of Justice Statistics, has submitted the following information collection request for review and clearance in accordance with emergency review procedures of the Paperwork Reduction Act of 1995. OMB approval has been requested by April 25, 2000. The proposed information collection is published to obtain comments from the public and affected agencies. If granted, the emergency approval is only valid for 180 days. Comments should be directed to OMB, Office of Information Regulation Affairs, Attention: Department of Justice Desk Officer, (202) 395-7860, Washington, DC 20530.

During the first 60 days of this same review period, a regular review of this information collection is also being undertaken. All comments and suggestions, or questions regarding additional information, to include obtaining a copy of the proposed information collection instrument with instructions, should be directed to Craig Perkins, 202-307-0758, Bureau of Justice Statistics, Office of Justice Programs, U.S. Department of Justice, 810 7th Street, NW, Washington, DC 20531.

Written comments and suggestions from the public and affected agencies concerning the proposed collection of information should address one or more of the following four points:

(1) Evaluate whether the proposed collection of information is necessary for the proper performance of the function of the agency, including whether the information will have practical utility;

(2) Evaluate the accuracy of the agency's estimate of he burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

1. Type of Information Collection: Extension and revision of a currently approved collection.

2. Title of the Form/Collection: National Crime Victimization Survey.

3. Agency form Number, if any, and the applicable component of the Department of Justice sponsoring the collection: NCVS-1 and NCVS-2.

4. Affected public who will be asked or required to respond, as well as a brief abstract: Primary: Individuals or Households. The National Crime Victimization Survey collects, analyzes, publishes, and disseminates statistics on the amount and type of crime committed against households and individuals in the United States. Respondents include persons age 12 or older living in about 49,200 interviewed households. Other: None.

5. An estimate of the total number of respondents and the amount of time estimated for an average respondent to respond: 109,400 respondents at 1.95 hours per interview.

6. An estimate of the total public burden (in hours) associated with the collection: 70,958 annual burden hours.

If additional information is required contact: Mrs. Brenda E. Dyer, Deputy Clearance Officer, United States Department of Justice, Information Management and Security Staff, Justice Management Division, Suite 1220, National Place Building, 1331 Pennsylvania Avenue, NW, Washington, DC 20530, or via facsimile at (202) 514-1534.

Dated: April 12, 2000.
Brenda E. Dyer,
Department Deputy Clearance Officer, Department of Justice.

[FR Doc. 00-9620 Filed 4-17-00; 8:45 am]

BILLING CODE 4410-18-M